DEPARTMENT OF ENERGY

Federal Energy Regulatory Commission

Combined Notice of Filings #1

Take notice that the Commission received the following electric corporate filings:

Docket Numbers: EC16-134-000.

Applicants: Chaves County Solar, LLC, Live Oak Solar, LLC, Marshall Solar, LLC, River Bend Solar, LLC.

Description: Application for Authorization Under FPA Section 203 and Request for Expedited Action of Chaves County Solar, LLC, et al.

Filed Date: 6/24/16.

Accession Number: 20160624-5256.

Comments Due: 5 p.m. ET 7/15/16.

Take notice that the Commission received the following exempt wholesale generator filings:

Docket Numbers: EG16-123-000.

Applicants: Victoria WLE, LP.

Description: Notice of Change in Facts Regarding Exempt Wholesale Generator Status of Victoria WLE, LP.

Filed Date: 6/24/16.

Accession Number: 20160624-5153.

Comments Due: 5 p.m. ET 7/15/16.

Docket Numbers: EG16-124-000.

Applicants: Five Points Solar Park LLC.

Description: Notice of Self-Certification of Exempt Wholesale GeneratorStatus of Five Points Solar Park LLC.

Filed Date: 6/24/16.

Accession Number: 20160624-5222.

Comments Due: 5 p.m. ET 7/15/16.

Take notice that the Commission received the following electric rate filings:

Docket Numbers: ER16-2019-000.

Applicants: Five Points Solar Park LLC.

Description: Baseline eTariff Filing: Five Points Solar Park LLC MBR Filing to be effective 6/25/2016.

Filed Date: 6/24/16.

Accession Number: 20160624-5187.

Comments Due: 5 p.m. ET 7/15/16.

Docket Numbers: ER16-2020-000.

Applicants: NRG Potomac River LLC.

Description: Tariff Cancellation: Notice of Cancellation to be effective 6/25/2016.

Filed Date: 6/24/16.

Accession Number: 20160624-5189.

Comments Due: 5 p.m. ET 7/15/16.

Docket Numbers: ER16-2021-000.

Applicants: FirstLight Hydro Generating Company.

Description: § 205(d) Rate Filing: FirstLight Change in Status to be effective 6/25/2016 .

Filed Date: 6/24/16.

Accession Number: 20160624-5190.

Comments Due: 5 p.m. ET 7/15/16.

Docket Numbers: ER16-2022-000.

Applicants: FirstLight Power Resources Management, LLC.

Description: § 205(d) Rate Filing: FirstLight Change in Status to be effective 6/25/2016.

Filed Date: 6/24/16.

Accession Number: 20160624-5191.

Comments Due: 5 p.m. ET 7/15/16.

Docket Numbers: ER16-2023-000.

Applicants: California Independent System Operator Corporation.

Description: § 205(d) Rate Filing: 20160624 Flexible Ramping Product to be effective 10/1/2016.

Filed Date: 6/24/16.

Accession Number: 20160624-5194.

Comments Due: 5 p.m. ET 7/15/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 27, 2016.
Nathaniel J. Davis, Sr.,
Deputy Secretary.

[FR Doc. 2016-15777 Filed 7-1-16; 8:45 am]

BILLING CODE 6717-01-P